DEPARTMENT OF DEFENSE

Office of Secretary

[Docket ID: DoD-2008-OS-0115]

Privacy Act of 1974; Systems of Records

AGENCY: Defense Finance and Accounting Service, DoD.

ACTION: Notice to Add a New System of Records.

SUMMARY: The Defense Finance and Accounting Service (DFAS) is proposing to add a system of records notice to its inventory of record systems subject to the Privacy Act of 1974, (5 U.S.C. 552a), as amended.

DATES: This action will be effective without further notice on October 31, 2008 unless comments are received that would result in a contrary determination.

ADDRESSES: Send comments to the FOIA/PA Program Manager, Corporate Communications and Legislative Liaison, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register and are available from the address above.

The proposed system report, as required by 5 U.S.C. 552a(r) of the Privacy Act of 1974, as amended, was submitted on July 10, 2008, to the House Committee on Government Oversight and Reform, the Senate Committee on Governmental Affairs, and the Office of Management and Budget (OMB) pursuant to paragraph 4c of Appendix I to OMB Circular No. A-130, `Federal Agency Responsibilities for Maintaining Records About Individuals,' dated December 12, 2000, 65 FR 239.

Dated: September 22, 2008.
Patricia L. Toppings,
OSD Federal Register Liaison Officer, Department of Defense.

T-7040a

System name:

Defense Industrial Financial Management System (DIFMS) Records.

System locations:

Defense Information Systems Agency, Defense Enterprise Computing Center, 7879 Wardleigh Road, Hill Air Force Base, Ogden, UT 84056-5997.

Defense Information Systems Agency, Defense Enterprise Computing Center, 5450 Carlisle Pike, P.O. Box 2045 Mechanicsburg, PA 17055-0975.

Categories of individuals covered by the system:

Department of Defense civilian employees.

Categories of records in the system:

Names, Social Security Numbers (SSN), financial reports, funds control, cost management, and general ledger information, receipts, and payments for use in preparing auditable financial statements.

Authority for maintenance of the system:

5 U.S.C. 301, Departmental Regulations, Department of Defense Financial Management Regulation (DoDFMR) 7000.14-R, Vol. 4, 31 U.S.C. Sections 3511 and 3513, and E.O. 9397 (SSN).

Purpose(s):

To support the core financial management requirements for the Department of the Navy, U.S. Marine Corps, and Air Force Depot Maintenance and Research and Development activities. This system will be the financial system of record and the central source of consolidated financial information for these DoD activities. The system will provide financial reporting, funds control, general ledger, receipts, payment, and cost management functions that will enable the customers to produce auditable financial statements.

Routine uses of records maintained in the system, including categories of users and the purposes of such uses:

In addition to those disclosures generally permitted under 5 U.S.C. 552a (b) of the Privacy Act, the records or information contained therein may specifically be disclosed outside the DoD as a routine use pursuant to 5 U.S.C. 552a (b)(3) as follows:

To the United States Department of the Treasury to report the financial status of the Working Capital funds.

To the General Accounting Office for auditing purposes.

The DoD `Blanket Routine Uses' published at the beginning of the DFAS compilation of systems of records notices apply to this system.

Policies and practices for storing, retrieving, accessing, retaining, and disposing of records in the system:

Storage:

Paper records in file folders and electronic storage media.

Retrievability:

Names and Social Security Numbers (SSN).

Safeguards:

Access to records is limited to individuals who are properly screened and cleared on a need-to-know basis in the performance of their duties. Passwords and user identifications are used to control access to the system data, and procedures are in place to detect and deter browsing and unauthorized access. Physical and electronic access are limited to persons responsible for servicing and authorized to use the system. Records are in a building protected by guards and controlled by screenings and registering of visitors.

Retention and disposal:

Records are cut-off at the end of fiscal year and destroyed 6 years and 3 months after cut-off. Records are destroyed by degaussing, burning, or shredding.

System manager(s) and address:

Commander, Defense Finance and Accounting Service, Technology Services Organization Patuxent River, 22299 Exploration Park Drive, Bldg IV, Suite 300, Lexington Park, MD 20653-2051.

Notification procedure:

Individuals seeking to determine whether information about them are contained in this record system should address written inquiries to the Defense Finance and Accounting Service, Freedom of Information/Privacy Act Program Manager, Corporate Communications and Legislative Liaison, 6760 E. Irvington Place, Denver, CO 80279-8000.

Individuals should furnish full name, Social Security Number (SSN), current address, and telephone number, and a reasonable description of what they are seeking.

Record access procedures:

Individuals seeking access to information about them contained in this system should address written inquiries to Defense Finance and Accounting Service, Freedom of Information/Privacy Act Program Manager, Corporate Communications and Legislative Liaison, 6760 E. Irvington Place, Denver, CO 80279-8000.

Individuals should furnish full name, Social Security Number (SSN), current address, and telephone number, and a reasonable description of what they are seeking.

Contesting record procedures:

The DFAS rules for accessing records, for contesting contents and appealing initial agency determinations are published in DFAS Regulation 5400.11-R; 32 CFR part 324; or may be obtained from Defense Finance and Accounting Service, Freedom of Information/Privacy Act Program Manager, Corporate Communications and Legislative Liaison, 6760 E. Irvington Place, Denver, CO 80279-8000.

Record source categories:

From individuals, Department of the Navy, U.S. Marine Corps, and Air Force Depot Maintenance and Research and Development activities.

Exemptions claimed for the system:

None.

[FR Doc. E8-23023 Filed 9-30-08; 8:45 am]

BILLING CODE 5001-06-P